Title 3—

The President

Proclamation 7711 of October 3, 2003

National Breast Cancer Awareness Month, 2003

By the President of the United States of America

A Proclamation

Breast cancer touches the lives of many Americans, either directly or through the diagnosis of a family member or friend. We have made considerable progress in diagnosing this disease and improving treatments, but we have not ended it. While overall death rates are declining, breast cancer remains the second leading cause of cancer deaths among women. During this 19th annual National Breast Cancer Awareness Month, we recognize the efforts being made to fight breast cancer through prevention, early detection, and aggressive research into new treatments and therapies.

Monthly self exams and mammograms are still the best ways to detect breast cancer at an early, treatable stage. The National Cancer Institute (NCI) and the United States Preventive Services Task Force agree that for women who are 40 or over, a mammogram every 1 to 2 years can greatly reduce the risk of dying from breast cancer. I encourage all women to consult with their physicians to obtain appropriate screenings to help with early detection.

This year in the United States, an estimated 212,000 individuals will be diagnosed with breast cancer and an estimated 40,000 will die of the disease. My Administration is committed to building on the research that has already advanced our knowledge of the causes of and possible cures for breast cancer. The NCI invested an estimated $564.6 million this year in breast cancer research and will spend approximately $584 million next year. Continued research provides the opportunity to better understand the causes of breast cancer and how we can better prevent, detect, and treat it. The United States Postal Service is also helping with the fight. Proceeds from the Postal Service's Breast Cancer Awareness stamp go to breast cancer research. Since the launch of this special stamp, more than $33 million has been raised to help search for a cure.

I urge all Americans to raise awareness of breast cancer by talking with family members and friends about the importance of screening and early detection. By educating ourselves and working together, we will improve our ability to prevent, detect, treat, and ultimately cure breast cancer.

NOW, THEREFORE, I, GEORGE W. BUSH, President of the United States of America, by virtue of the authority vested in me by the Constitution and laws of the United States, do hereby proclaim the month of October 2003 as National Breast Cancer Awareness Month. I call upon Government officials, businesses, communities, healthcare professionals, educators, volunteers, and all the people of the United States to continue our Nation's strong commitment to controlling and curing breast cancer.

IN WITNESS WHEREOF, I have hereunto set my hand this third day of October, in the year of our Lord two thousand three, and of the Independence of the United States of America the two hundred and twenty-eighth.

B

[FR Doc. 03-25649

Filed 10-7-03; 8:45 am]

Billing code 3195-01-P